SMALL BUSINESS ADMINISTRATION

[Disaster Declaration #20711 and #20712; GEORGIA Disaster Number GA-20013]

Presidential Declaration of a Major Disaster for the State of Georgia

AGENCY: U.S. Small Business Administration.

ACTION: Notice.

SUMMARY: This is a Notice of the Presidential declaration of a major disaster for the State of Georgia (FEMA-4830-DR), dated September 30, 2024.

DATES: Issued on September 30, 2024.

Physical Loan Application Deadline Date: November 29, 2024.

Economic Injury (EIDL) Loan Application Deadline Date: June 30, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the President's major disaster declaration on September 30, 2024, applications for disaster loans may be submitted online using the MySBA Loan Portal https://lending.sba.gov or other locally announced locations. Please contact the SBA disaster assistance customer service center by email at disastercustomerservice@sba.gov or by phone at 1-800-659-2955 for further assistance.

Incident: Hurricane Helene.

Incident Period: September 24, 2024 and continuing.

The following areas have been determined to be adversely affected by the disaster:

Primary Counties (Physical Damage and Economic Injury Loans):

Appling, Brooks, Coffee, Columbia, Jefferson, Liberty, Lowndes, Pierce, Richmond, Tattnall, Toombs.

Contiguous Counties (Economic Injury Loans Only):

Georgia: Atkinson, Bacon, Ben Hill, Berrien, Brantley, Bryan, Burke, Candler, Chatham, Colquitt, Cook, Echols, Emanuel, Evans, Glascock, Irwin, Jeff Davis, Johnson, Lanier, Lincoln, Long, McDuffie, McIntosh, Montgomery, Telfair, Thomas, Treutlen, Ware, Warren, Washington, Wayne.

Florida: Hamilton, Jefferson, Madison.

South Carolina: Aiken, Edgefield, McCormick

The Interest Rates are:

| Percent
For Physical Damage:
Homeowners with Credit Available Elsewhere | 5.625
Homeowners without Credit Available Elsewhere | 2.813
Businesses with Credit Available Elsewhere | 8.000
Businesses without Credit Available Elsewhere | 4.000
Non-Profit Organizations with Credit Available Elsewhere | 3.250
Non-Profit Organizations without Credit Available Elsewhere | 3.250
For Economic Injury:
Business and Small Agricultural Cooperatives without Credit Available Elsewhere | 4.000
Non-Profit Organizations without Credit Available Elsewhere | 3.250

The number assigned to this disaster for physical damage is 207118 and for economic injury is 207120.

(Catalog of Federal Domestic Assistance Number 59008)

Rafaela Monchek,
Deputy Associate Administrator, Office of Disaster Recovery & Resilience.

[FR Doc. 2024-23025 Filed 10-3-24; 8:45 am]

BILLING CODE 8026-09-P